DEPARTMENT OF DEFENSE

Department of the Army

Advisory Committee on Arlington National Cemetery Meeting Notice

AGENCY: Department of the Army, DoD.

ACTION: Notice; date correction.

SUMMARY: The notice of an open meeting for the Honor Subcommittee, Remember and Explore Subcommittee and full Advisory Committee on Arlington National Cemetery published in the Federal Register on August 2, 2019 has changed the date and times of the meetings. They will now be held on Sep 25, 2019 (Honor subcommittee from 8:30 to 10 a.m. and Remember and Explore Subcommittee from 2:30 to 4 p.m.) and Sep 26, 2019 8:30-3 p.m. at the same location.

FOR FURTHER INFORMATION CONTACT: Ms. Renea Yates, Designated Federal Officer for the Committee, in writing at Arlington National Cemetery, Arlington VA 22211, or by email at renea.c.yates.civ@mail.mil, or by phone at 1-877-907-8585.

Brenda S. Bowen,
Army Federal Register Liaison Officer.

[FR Doc. 2019-18610 Filed 8-27-19; 8:45 am]

BILLING CODE 5001-03-P